DEPARTMENT OF LABOR

Occupational Safety and Health Administration

29 CFR Part 1910

Powered Industrial Trucks

CFR Correction

In Title 29 of the Code of Federal Regulations, Parts 1900 to § 1910.999, revised as of July 1, 2005, in § 1910.178, on page 545, remove paragraphs (m)(12)(i), (ii), and (iii).

[FR Doc. 05-55511 Filed 9-29-05; 8:45 am]

BILLING CODE 1505-01-D